PENSION BENEFIT GUARANTY CORPORATION

Proposed Submission of Information Collection for OMB Review; Comment Request; Annual Reporting (Form 5500 Series)

AGENCY: Pension Benefit Guaranty Corporation.

ACTION: Notice of intention to request extension of OMB approval, with modifications.

SUMMARY: The Pension Benefit Guaranty Corporation (PBGC) intends to request that the Office of Management and Budget (OMB) extend approval (with modifications), under the Paperwork Reduction Act of 1995, of its collection of information for Annual Reporting (OMB control number 1212-0057, expires June 30, 2017). This notice informs the public of PBGC's intent and solicits public comment on the collection of information.

DATES: Comments must be submitted by December 19, 2014.

ADDRESSES: Comments may be submitted by any of the following methods:

• Federal eRulemaking Portal: http://www.regulations.gov. Follow the Web site instructions for submitting comments.

• Email: paperwork.comments@pbgc.gov.

• Fax: 202-326-4224.

• Mail or Hand Delivery: Regulatory Affairs Group, Office of the General Counsel, Pension Benefit Guaranty Corporation, 1200 K Street NW., Washington, DC 20005-4026.

PBGC will make all comments available on its Web site at http://www.pbgc.gov.

Copies of the collection of information and comments may be obtained without charge by writing to the Disclosure Division of the Office of the General Counsel of PBGC, at the above address or by visiting the Disclosure Division or calling 202-326-4040 during normal business hours. (TTY and TDD users may call the Federal relay service toll-free at 1-800-877-8339 and ask to be connected to 202-326-4040.)

FOR FURTHER INFORMATION CONTACT: Grace Kraemer, Attorney, or Catherine B. Klion, Assistant General Counsel, Office of the General Counsel, Pension Benefit Guaranty Corporation, 1200 K Street NW., Washington, DC 20005-4026; 202-326-4024. (TTY and TDD users may call the Federal relay service toll-free at 1-800-877-8339 and ask to be connected to 202-326-4024.)

SUPPLEMENTARY INFORMATION: The Employee Retirement Income Security Act of 1974 (ERISA) contains three separate sets of provisions—in Title I (Labor provisions), Title II (Internal Revenue Code provisions), and Title IV (PBGC provisions)—requiring administrators of employee benefit pension and welfare plans (collectively referred to as employee benefit plans) to file returns or reports annually with the Federal government.

PBGC, the Department of Labor (DOL), and the Internal Revenue Service (IRS) work together to produce the Form 5500 Annual Return/Report for Employee Benefit Plan and Form 5500-SF Short Form Annual Return/Report for Small Employee Benefit Plan (Form 5500 Series), through which the regulated public can satisfy the combined reporting/filing requirements applicable to employee benefit plans.

The collection of information has been approved by OMB under control number 1212-0057 through June 30, 2017. PBGC intends to request that OMB extend its approval for three years, with modifications. An agency may not conduct or sponsor, and a person is not required to respond to, a collection of information unless it displays a currently valid OMB control number.

PBGC is proposing several modifications to the 2015 Schedule MB (Multiemployer Defined Benefit Plan Actuarial Information) and instructions and the Schedule SB (Single Employer Defined Benefit Plan Actuarial Information) instructions. These modifications affect multiemployer defined benefit plans covered by Title IV of ERISA.

Based on a recommendation made by practitioners, PBGC is proposing to modify the Schedule MB to require plan administrators of all multiemployer plans to report on line 4 the funded percentage for monitoring the plan's status. Currently, only plan administrators of multiemployer plans in critical or endangered status are required to report this information on line 4. (Plan administrators of all multiemployer plans are currently required to report information that can be used to calculate this funded percentage on line 1 of the Schedule MB.)

PBGC is also proposing to modify the Schedule MB instructions to add RP-2000 and RP-2000 (with Blue Collar Adjustment) to the list of mortality tables for non-disabled lives that plans may report in line 6c. (Plans that use these mortality tables currently report under the category “Other”.)

The Schedule MB and instructions would also be modified to add a new question in line 8b that would require large multiemployer plans (500 or more total participants as of the valuation date) to provide in an attachment a projection of expected benefit payments to be paid for the entire plan (not including expected expenses) for each of the next ten plan years starting with the plan year to which the filing relates. For this purpose plans would assume no additional accruals, experience (e.g., termination, mortality, and retirement) is consistent with the plan's valuation assumptions, and no new entrants would be covered by the plan.

PBGC is proposing to modify the Schedule SB instructions to simplify the alternative age/service scatters that cash balance plans with 1,000 or more active participants have an option to report on an attachment to line 26.

PBGC estimates that it will receive approximately 25,000 Form 5500 and Form 5500-SF filings per year under this collection of information. PBGC further estimates that the total annual burden of this collection of information will be 1,200 hours and $1,357,000.

PBGC is soliciting public comments to—

• Evaluate whether the proposed collection of information is necessary for the proper performance of the functions of the agency, including whether the information will have practical utility;

• Evaluate the accuracy of the agency's estimate of the burden of the proposed collection of information, including the validity of the methodologies and assumptions used;

• Enhance the quality, utility, and clarity of the information to be collected; and

• Minimize the burden of the collection of information on those who are to respond, including through the use of appropriate automated, electronic, mechanical, or other technological collection techniques or other forms of information technology, e.g., permitting electronic submission of responses.

Issued in Washington, DC, this 14th day of October 2014.
Judith Starr,
General Counsel, Pension Benefit Guaranty Corporation.

[FR Doc. 2014-24925 Filed 10-17-14; 8:45 am]

BILLING CODE 7709-02-P